FEDERAL COMMUNICATIONS COMMISSION

47 CFR Part 54

[GN Docket No. 20-32; FCC 24-89; FRS 246488]

Petitions for Reconsideration of Action in Rulemaking Proceeding; Correction

AGENCY: Federal Communications Commission.

ACTION: Proposed rule; correction.

SUMMARY: This document makes an editorial correction to the date in a citation that appeared in the Federal Register on September 17, 2024. That Federal Register document, which invited comment on the 5G Fund Second Further Notice of Proposed Rulemaking, incorrectly listed the date on which a summary of the Commission's 2023 5G Fund Further Notice of Proposed Rulemaking was published in Federal Register as September 28, 2024. The correct date is September 28, 2023.

DATES: The corrections are effective September 26, 2024.

FOR FURTHER INFORMATION CONTACT: Valerie Barrish, Office of Economics and Analytics, Auctions Division, (202) 418-0660, or Valerie.Barrish@fcc.gov.

SUPPLEMENTARY INFORMATION: This document makes an editorial correction in a citation that appeared in the summary of the 5G Second Further Notice of Proposed Rulemaking, published at 89 FR 76016 on September 17, 2024, which incorrectly listed incorrectly listed the date on which a summary of the Commission's 2023 5G Fund Further Notice of Proposed Rulemaking was published in Federal Register as September 28, 2024, rather than September 28, 2023.

In FR Doc. 2024-20979 appearing on page 76016 in the Federal Register of Tuesday, September 16, 2024, the following correction is made:

1. On page 76017, in the first column, in the Synopsis in the SUPPLEMENTARY INFORMATION, in paragraph number 2., the date “(Sept. 28, 2024)” is corrected to read “(Sept. 28, 2023)”.

Federal Communications Commission.
Marlene Dortch,
Secretary.

[FR Doc. 2024-21968 Filed 9-25-24; 8:45 am]

BILLING CODE 6712-01-P